Proclamation 9667 of October 31, 2017

National Entrepreneurship Month, 2017

By the President of the United States of America

A Proclamation

National Entrepreneurship Month celebrates one of our Nation's proudest qualities: our innovative, hardworking, entrepreneurial spirit. American entrepreneurs invent and sell fascinating and endlessly useful new products and services, creating millions of jobs and driving American global leadership along the way. This month, we emphasize the importance of creating and maintaining an economic and regulatory environment that helps new businesses thrive and inspires generations of entrepreneurs for the future.

For America to be the land of opportunity, we must ensure that entrepreneurs have access to the capital, markets, and networks they need to get off the ground, to finance and build helpful innovations, and to export their products and services around the world. My Administration will continue its work to eliminate unnecessary, burdensome regulations and to fight for a simpler, fairer tax code that eases burdens on doing business and enhances access to capital. We want entrepreneurs to spend less time dealing with red tape and more time growing their businesses.

The American Dream should be within reach of all those who work hard. For too long, women, despite hard work and a drive to succeed, faced significant barriers in achieving their economic vision. Today, we celebrate that women entrepreneurs are growing their businesses all over the country. The number of women-owned firms is growing much faster than the national average for all firms. Our Nation has more than 11 million women-owned businesses that employ nearly 9 million people and generate more than $1 trillion in revenue. My Administration is committed to expanding opportunities for women entrepreneurs, including by expanding women's access to needed capital and networks, because our economy and our communities thrive when women are empowered.

For our entrepreneurs to thrive, we must protect their innovations, which are the result of their long hours of work and years of training. My Administration is committed to ensuring that American and global intellectual property regimes firmly protect American innovations at home and abroad. Our entrepreneurs have already done great things with that research and innovation—like bringing us the smartphones that connect us more closely, the medicine that keeps us and our loved ones healthy for longer than ever before, and the myriad other technologies that make our lives better, at home and at work. Our researchers deserve their investments of time and effort—their property—to be protected against theft and unfair practices.

Entrepreneurship has played an important part of my life and the lives of my family members. I know that starting and growing a business takes tremendous grit and that facing the unknown requires determination. I also know that taking on that risk makes our Nation and our world a better place. Entrepreneurship is the fuel of our Nation's economic engine, and this month, I call upon Americans to recognize the entrepreneurs who strengthen our economy, drive creativity, and increase the vibrancy of our great Nation.

NOW, THEREFORE, I, DONALD J. TRUMP, President of the United States of America, by virtue of the authority vested in me by the Constitution and the laws of the United States, do hereby proclaim November 2017 as National Entrepreneurship Month. I call upon all Americans to commemorate this month with appropriate programs and activities and to celebrate November 21, 2017, as National Entrepreneurs' Day.

IN WITNESS WHEREOF, I have hereunto set my hand this thirty-first day of October, in the year of our Lord two thousand seventeen, and of the Independence of the United States of America the two hundred and forty-second.

[FR Doc. 2017-24293

Filed 11-3-17; 11:15 am]

Billing code 3295-F8-P